DEPARTMENT OF AGRICULTURE

Rural Business-Cooperative Service

Notice of Funds Availability (NOFA) Inviting Applications for the Renewable Energy Systems and Energy Efficiency Improvements Grant Program

AGENCY: Rural Business-Cooperative Service, USDA.

ACTION: Notice of extension of application deadline and clarification of previous notice.

SUMMARY: The Rural Business-Cooperative Service (RBS) extends the deadline of June 6, 2003, for submitting applications for grant funds to purchase renewable energy systems and make energy efficiency improvements for agricultural producers and rural small businesses under Title IX, Section 9006, pursuant to enactment of the Farm Security and Rural Investment Act of 2002 announced in a notice of funds availability (NOFA) published April 8, 2003 (67 FR 17009). This action is also taken to provide additional information that clarifies the financial requirements for agricultural producers and requirements for utility interconnection agreements and power purchase arrangements. This extension will allow eligible applicants additional time to submit applications.

DATES: Accordingly, the deadline for submitting applications under the notice published April 8, 2003, (67 FR 17009) is extended to June 27, 2003. Applications postmarked after June 27, 2003, will be returned to the applicant with no action. Postage due applications will not be accepted.

FOR FURTHER INFORMATION CONTACT: USDA Rural Development State Offices published in the notice on April 8, 2003 (67 FR 17009).

SUPPLEMENTARY INFORMATION:

Background and Discussion of Extension of Application Deadline

RBS published a Notice of Funds Availability (NOFA) on April 8, 2003 (67 FR 17009) with an application deadline of June 6, 2003. Due to the application requirements outlined in the NOFA and the clarifications of two areas of the NOFA that are being provided as part of this notice, RBS is extending the application period until June 26, 2003.

The NOFA requires that agricultural producers submit a current balance sheet and income statement in a format that is generally required by commercial agricultural lenders. In addition, agricultural producers are required to provide financial statements for the past 3 years, including income statements and balance sheets, in the format that is generally required by commercial agricultural lenders. For agricultural producers, the requirement of the use of a format that is generally required by commercial agricultural lenders is satisfied by the use of “income tax returns, bank statements, balance sheet/income statements, or financial statements.” If the applicant chooses to submit last year's income tax return in lieu of a current income statement, a balance sheet and/or bank statement will be required. This requirement is necessary in order to determine the demonstrated financial need for the grant. Agricultural producers may submit only income tax returns to satisfy the requirement to provide financial statements for the past 3 years. For assistance in finding technical and feasibility resources useful in preparing an application under the NOFA, please access the Rural Development Web site, http://www.rurdev.usda.gov, in the Rural Development News section.

RBS recognizes that the interconnection agreement and power purchase arrangements may take several months to arrange and execute. While the Agency always recognized this reality, language used in the NOFA to describe the requirement could have been more clear. Applicants are advised that a letter of intent between the utility and the applicant to enter into an interconnection agreement satisfies the requirement in the NOFA. Applicants are also advised that a letter of intent between the power purchaser and the applicant to enter into a power purchase arrangement satisfies the requirement in the NOFA. RBS recognizes that the utility and the power purchaser may be different entities.

Dated: May 12, 2003.
Thomas C. Dorr,
Under Secretary, Rural Development.

[FR Doc. 03-12459 Filed 5-16-03; 8:45 am]

BILLING CODE 3410-XY-P